FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 11, 2015.

A. Federal Reserve Bank of Atlanta (Chapelle Davis, Assistant Vice President) 1000 Peachtree Street NE., Atlanta, Georgia 30309:

1. Infinity Trust, and it co-trustees Bryan Cohen, Cumming, Georgia; Suleka Neelagaru, both of Atlanta, Georgia; and Bradley Day, Norcross, Georgia; to acquire voting shares of Quantum Capital Corporation, and thereby indirectly acquire voting shares of Quantum National Bank, both in Suwanee, Georgia.

B. Federal Reserve Bank of Chicago (Colette A. Fried, Assistant Vice President) 230 South LaSalle Street, Chicago, Illinois 60690-1414:

1. Mary L. Staudenmaier, individually and as trustee of the Mary L. Staudenmaier Revocable Trust, and the Mary L. Staudenmaier Revocable Trust, all of Marinette, Wisconsin; together with L.William Staudenmaier, Jr., as trustee of the L. William Staudenmaier and Kathleen M. Staudenmaier Living Trust and the L. William Staudenmaier and Kathleen M. Staudenmaier Living Trust, all of Wauwatosa, Wisconsin; Ann Marie Staudenmaier, Tomas Perez and Amalia Mercedez Perez, all of Takoma Park, Maryland; L. William Staudenmaier III and Heidi L. McNeil, as trustees of the L. WM Staudenmaier III and Heidi L. McNeil Revocable Trust, the L. WM Staudenmaier III and Heidi L. McNeil Revocable Trust, all of Phoenix, Arizona; L. William Staudenmaier III and Kathleen Louise McNeil Staudenmaier, all of Phoenix, Arizona; Michael J. Staudenmaier and Anne Carlson, both of Chicago, Illinois; Peter Staudenmaier, Milwaukee, Wisconsin; Suzanne Staudenmaier and Kelly McGee, both of Minneapolis, Minnesota; Therese Louise Staudenmaier, Daniel McCarthy, and Gabriel Liam McCarthy, all of Baltimore, Maryland; James T. Breeden Jr. and Gloria Lee, both of Oakland, California; Teresa Breeden Whatley, James T. Breeden, Margaret A. Breeden, all of Carson City, Nevada; Stephenson National Bank & Trust and Mary L. Staudenmaier as co trustees of the Mary L. Staudenmaier Revocable Trust; and certain minor Staudenmaier children, all as a group acting in concert, and to become members of the Staudenmaier Control Group; to retain voting shares of Stephenson National Bancorp, Inc., and thereby indirectly retain voting shares of Stephenson National Bank and Trust, both in Marinette, Wisconsin.

Board of Governors of the Federal Reserve System, May 22, 2015.
Michael J. Lewandowski,
Associate Secretary of the Board.

[FR Doc. 2015-12946 Filed 5-28-15; 8:45 am]

BILLING CODE 6210-01-P